DEPARTMENT OF TRANSPORTATION

Office of the Secretary

Notice of Applications for Certificates of Public Convenience and Necessity and Foreign Air Carrier Permits Filed Under Subpart B (Formerly Subpart Q) During the Week Ending June 15, 2001

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2001-9918.

Date Filed: June 13, 2001.

Due Date for Answers, Conforming Applications, or Motion to Modify Scope: July 5, 2001.

Description: Application of C.A.L. Cargo Airlines Limited, pursuant to 49 U.S.C. 41302 and part 211 and subpart B, requesting an amendment for an initial foreign air carrier permit authorizing it to provide scheduled foreign air transportation of property and mail between Tel Aviv, Israel; New York (JFK) and Chicago (O'Hare) via Luxembourg; Gander,New Foundland (technical stop) and Liege, Belgium.

Docket Number: OST-2001-9936.

Date Filed: June 14, 2001.

Due Date for Answers, Conforming Applications, or Motion to Modify Scope: July 5, 2001.

Description: Application of Ukrainian Cargo Airways, pursuant to 49 U.S.C. 41302, (representing the recodified version of section 402 of the Federal Aviation Act of 1958 “Act”, as amended), part 211 of the Department of Transportation's (“Department”) Economic Regulations, and Subpart B of the Department's Rules of Practice, hereby applies for a foreign air carrier permit to engage in all-cargo charter service between Ukraine and the United States.

Docket Number: OST-2001-9945.

Date Filed: June 15, 2001.

Due Date for Answers, Conforming Applications, or Motion to Modify Scope: July 6, 2001.

Description: Application of Air Nevada Airlines, Inc. d/b/a Pacific Wings, pursuant to 49 U.S.C. 41102 and subpart B, requesting a transfer of its certificate of public convenience and necessity to Pacific Wings, LLC to engage in interstate scheduled air transportation.

Andrea M. Jenkins,
Federal Register Liaison.

[FR Doc. 01-16179 Filed 6-26-01; 8:45 am]

BILLING CODE 4910-62-P